SMALL BUSINESS ADMINISTRATION

[Disaster Declaration #20711 and #20712; GEORGIA Disaster Number GA-20013]

Presidential Declaration Amendment of a Major Disaster for the State of Georgia

AGENCY: U.S. Small Business Administration.

ACTION: Amendment 4.

SUMMARY: This is an amendment of the Presidential declaration of a major disaster for the State of Georgia (FEMA-4830-DR), dated September 30, 2024.

DATES: Issued on October 9, 2024.

Physical Loan Application Deadline Date: November 29, 2024.

Economic Injury (EIDL) Loan Application Deadline Date: June 30, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Georgia, dated September 30, 2024, is hereby amended to include the following areas as adversely affected by the disaster:

Incident: Hurricane Helene.

Incident Period: September 24, 2024 and continuing.

Primary Counties (Physical Damage and Economic Injury Loans): Dodge, Hancock, Thomas, Warren.

Contiguous Counties (Economic Injury Loans Only):

Georgia: Grady, Greene, Pulaski, Putnam, Taliaferro.

Florida: Leon.

All other information in the original declaration remains unchanged.

(Catalog of Federal Domestic Assistance Number 59008)

Rafaela Monchek,
Deputy Associate Administrator, Office of Disaster Recovery & Resilience.

[FR Doc. 2024-23884 Filed 10-16-24; 8:45 am]

BILLING CODE 8026-09-P